DEPARTMENT OF DEFENSE

Office of the Secretary

Integrity and Continuity of the Defense Career Civilian Workforce

AGENCY: Department of Defense (DoD).

ACTION: Notice of availability.

SUMMARY: This notice informs the public of the availability of DoD internal guidance reaffirming merit system principles and the Secretary of Defense's determination that DoD career civilian employees must be afforded existing civil service protections consistent with due process, which promote integrity and candor and preserve the continuity of the national defense workforce.

DATES: July 10, 2024.

FOR FURTHER INFORMATION CONTACT: Mr. Brian Collins, (703) 693-5794.

SUPPLEMENTARY INFORMATION: The Secretary has determined that existing civil service protections are essential to the integrity and continuity of the defense career civilian workforce. The Secretary directed specific actions be taken to incorporate this determination into DoD internal issuances and employee records.

DoD's internal guidance is available at: https://www.milsuite.mil/book/servlet/JiveServlet/previewBody/1330762-102-1-3051000/OSD005464-24_CAC.pdf.

Dated: July 24, 2024.
Patricia L. Toppings,
OSD Federal Register Liaison Officer, Department of Defense.

[FR Doc. 2024-16582 Filed 7-26-24; 8:45 am]

BILLING CODE 6001-FR-P